DEPARTMENT OF TRANSPORTATION

Federal Aviation Administration

14 CFR Part 71

[Docket No. FAA-2023-0881; Airspace Docket No. 22-AEA-34]

RIN 2120-AA66

Amendment of VOR Federal Airways V-469 and V-501, and Revocation of VOR Federal Airway V-474 in the Vicinity of St. Thomas, PA

AGENCY: Federal Aviation Administration (FAA), DOT.

ACTION: Notice of proposed rulemaking (NPRM).

SUMMARY: This action proposes to amend Very High Frequency (VHF) Omnidirectional Range (VOR) Federal airways V-469 and V-501, and revoke V-474. The FAA is proposing this action due to the planned decommissioning of the VOR portion of the St. Thomas, PA (THS), VOR/Tactical Air Navigation (VORTAC) navigational aid (NAVAID). The St. Thomas VOR is being decommissioned in support of the FAA's VOR Minimum Operational Network (MON) program.

DATES: Comments must be received on or before May 25, 2023.

ADDRESSES: Send comments identified by FAA Docket No. FAA-2023-0881 and Airspace Docket No. 22-AEA-34 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX, 76177.

Incorporation by Reference

VOR Federal airways are published in paragraph 6010(a) of FAA Order JO 7400.11, Airspace Designations and Reporting Points, which is incorporated by reference in 14 CFR 71.1 on an annual basis. This document proposes to amend the current version of that order, FAA Order JO 7400.11G, dated August 19, 2022, and effective September 15, 2022. These updates would be published in the next update to FAA Order JO 7400.11. That order is publicly available as listed in the ADDRESSES section of this document.

FAA Order JO 7400.11G lists Class A, B, C, D, and E airspace areas, air traffic service routes, and reporting points.

Background

The FAA is planning to decommission the VOR portion of the St. Thomas, PA, VORTAC in November 2023. The St. Thomas VOR is one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the St. Thomas VORTAC is planned for decommissioning, the co-located Tactical Air Navigation (TACAN) portion of the NAVAID is being retained to provide navigational service for military operations and Distance Measuring Equipment (DME) service supporting current and future NextGen PBN flight procedure requirements.

The VOR Federal airways affected by the planned decommissioning of the St. Thomas VOR are V-469, V-474, and V-501. With the planned decommissioning of the St. Thomas VOR, the remaining ground-based NAVAID coverage in the area is insufficient to enable the continuity of the affected airways. As such, proposed modifications to V-469 would result in a gap in the airway, to V-474 would result in the airway being revoked, and to V-501 would result in the airway being amended to replace the St. Thomas VORTAC route point with a reporting point Fix.

To address the affected airway proposed amendments and revocation, instrument flight rules (IFR) traffic could receive air traffic control (ATC) radar vectors or use adjacent VOR Federal airways V-12, V-268, or V-377 to fly around or through the affected area. Additionally, pilots equipped with RNAV capabilities could also navigate point to point using the existing fixes that would remain in place to support continued operations though the affected area. Visual flight rules (VFR) pilots who elect to navigate via the affected VOR Federal airways could also take advantage of the adjacent airways or ATC services listed previously.

Prior to this NPRM, the FAA published a rule for Docket No. FAA-2022-1424 in the Federal Register (88 FR 18026; March 27, 2023) amending V-474 by removing the airway segment overlying the Indian Head, PA, VORTAC between the intersection of the Morgantown, WV, VOR/Distance Measuring Equipment (VOR/DME) 010° and Johnstown, PA, VOR/DME 260° radials (NESTO Fix) and the St. Thomas, PA, VORTAC. The V-474 airway amendment is effective June 15, 2023 and is reflected in this action.

The Proposal

The FAA is proposing an amendment to 14 CFR part 71 to amend VOR Federal airways V-469 and V-501, and revoke V-474 due to the planned decommissioning of the VOR portion of the St. Thomas, PA, VORTAC. The proposed airway actions are described below.

V-469: V-469 currently extends between the Danville, VA, VORTAC and the Woodstown, NJ, VORTAC. The FAA proposes to remove the airway segment between the Johnstown, PA, VOR/DME and the Harrisburg, PA, VORTAC. As amended, the airway would be changed to extend between the Danville VORTAC and the Johnstown VOR/DME and between the Harrisburg VORTAC and the Woodstown VORTAC.

V-474: V-474 currently extends between the St. Thomas, PA, VORTAC and the Modena, PA, VORTAC. The FAA proposes to remove the airway in its entirety.

V-501: V-501 currently extends between the Martinsburg, WV, VORTAC and the Philipsburg, PA, VORTAC. The FAA proposes to remove the St. Thomas, PA, VORTAC airway point and replace it with the VINSE reporting point Fix at the intersection of the Harrisburg, PA, VORTAC 244°(T)/254°(M) and Philipsburg, PA, VORTAC 178°(T)/188°(M) radials. The VINSE Fix is being added to the Low Enroute charts and is located approximately three nautical miles north of the St. Thomas VORTAC. As amended, the airway would continue to extend between the Martinsburg VORTAC and the Philipsburg VORTAC.

The NAVAID radials listed in the V-469 description below are unchanged and stated in degrees True north. The NAVAID radials listed in the V-501 description below are proposed and stated in degrees True (T) north and Magnetic (M) north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-469 [Amended]

From Danville, VA; Lynchburg, VA; INT Lynchburg 347° and Elkins, WV, 142° radials; Elkins; Morgantown, WV; INT Morgantown 010° and Johnstown, PA, 260° radials; to Johnstown. From Harrisburg, PA; Dupont, DE; to Woodstown, NJ.

* * * * *

V-474 [Removed]

* * * * *

V-501 [Amended]

From Martinsburg, WV; Hagerstown, MD; INT Harrisburg, PA, 244°(T)/254°(M) and Philipsburg, PA, 178°(T)/188°(M) radials; to Philipsburg.

* * * * *

Issued in Washington, DC, on April 3, 2023.
Brian Konie,
Acting Manager, Airspace Rules and Regulations.

[FR Doc. 2023-07301 Filed 4-7-23; 8:45 am]

BILLING CODE 4910-13-P